DEPARTMENT OF ENERGY

Federal Energy Regulatory Commission

[Project No. 12611-005]

Verdant Power, LLC; Notice of Staff Participation in Meeting

On May 24, 2011, Office of Energy Projects staff will participate by teleconference in a meeting with Verdant Power and state and federal agencies to discuss adaptive management strategies for the environmental monitoring and safeguard plans in licensing the Roosevelt Island Tidal Energy Project No. 12611.

For parties wishing to participate, details on the teleconference are provided below:

Date: May 24, 2011.

Time: 2 p.m.

Call-in Number: (877) 857-1347.

Meeting ID: 5140.

Password: 12611.

For Further Information Contact: Timothy Konnert at (202) 502-6359, or e-mail at timothy.konnert@ferc.gov.

Dated: May 9, 2011.
Kimberly D. Bose,
Secretary.

[FR Doc. 2011-11754 Filed 5-12-11; 8:45 am]

BILLING CODE 6717-01-P